DEPARTMENT OF ENERGY

Federal Energy Regulatory Commission

[Docket No. EG01-52-000, et al.]

Morgantown OL 1 LLC, et al.; Electric Rate and Corporate Regulation Filings

December 20, 2000.

Take notice that the following filings have been made with the Commission:

1. Morgantown OL1 LLC

[Docket No. EG01-52-000]

Take notice that on December 15, 2000, Morgantown OL1 LLC, c/o Wilmington Trust Company, Rodney Square North, 1100 North Market Street, Wilmington, DE 19890-0001, Attn: Corporate Trust Administration (Applicant), filed with the Federal Energy Regulatory Commission an application for determination of exempt wholesale generator status pursuant to Part 365 of the Commission's regulations.

Applicant is a Delaware special purpose limited liability company that intends to acquire an undivided ownership interest in the coal/oil-fired Units 1 and 2 located at the Morgantown Station located near Newburg, Maryland (the Morgantown Units). The Morgantown Units have an aggregate generating capacity of approximately 1164 MW. Applicant will be engaged directly and exclusively in the business of owning all or part of one or more eligible facilities and selling electric energy at wholesale.

Comment date: January 10, 2001, in accordance with Standard Paragraph E at the end of this notice. The Commission will limit its consideration of comments to those that concern the adequacy or accuracy of the application.

2. Morgantown OL2 LLC

[Docket No. EG01-53-000]

Take notice that on December 15, 2000, Morgantown OL2 LLC, c/o Wilmington Trust Company, Rodney Square North, 1100 North Market Street, Wilmington, DE 19890-0001, Attn: Corporate Trust Administration (Applicant), filed with the Federal Energy Regulatory Commission an application for determination of exempt wholesale generator status pursuant to Part 365 of the Commission's regulations.

Applicant is a Delaware special purpose limited liability company that intends to acquire an undivided ownership interest in the coal/oil-fired Units 1 and 2 located at the Morgantown Station located near Newburg, Maryland (the Morgantown Units). The Morgantown Units have an aggregate generating capacity of approximately 1164 MW. Applicant will be engaged directly and exclusively in the business of owning all or part of one or more eligible facilities and selling electric energy at wholesale.

Comment date: January 10, 2001, in accordance with Standard Paragraph E at the end of this notice. The Commission will limit its consideration of comments to those that concern the adequacy or accuracy of the application.

3. Morgantown OL3 LLC

[Docket No. EG01-54-000]

Take notice that on December 15, 2000, Morgantown OL3 LLC, c/o Wilmington Trust Company, Rodney Square North, 1100 North Market Street, Wilmington, DE 19890-0001, Attn: Corporate Trust Administration (Applicant), filed with the Federal Energy Regulatory Commission an application for determination of exempt wholesale generator status pursuant to Part 365 of the Commission's regulations.

Applicant is a Delaware special purpose limited liability company that intends to acquire an undivided ownership interest in the coal/oil-fired Units 1 and 2 located at the Morgantown Station located near Newburg, Maryland (the Morgantown Units). The Morgantown Units have an aggregate generating capacity of approximately 1164 MW. Applicant will be engaged directly and exclusively in the business of owning all or part of one or more eligible facilities and selling electric energy at wholesale.

Comment date: January 10, 2001, in accordance with Standard Paragraph E at the end of this notice. The Commission will limit its consideration of comments to those that concern the adequacy or accuracy of the application.

4. Morgantown OL4 LLC

[Docket No. EG01-55-000]

Take notice that on December 15, 2000, Morgantown OL4 LLC, c/o Wilmington Trust Company, Rodney Square North, 1100 North Market Street, Wilmington, DE 19890-0001, Attn: Corporate Trust Administration Applicant), filed with the Federal Energy Regulatory Commission an application for determination of exempt wholesale generator status pursuant to Part 365 of the Commission's regulations.

Applicant is a Delaware special purpose limited liability company that intends to acquire an undivided ownership interest in the coal/oil-fired Units 1 and 2 located at the Morgantown Station located near Newburg, Maryland (the Morgantown Units). The Morgantown Units have an aggregate generating capacity of approximately 1164 MW. Applicant will be engaged directly and exclusively in the business of owning all or part of one or more eligible facilities and selling electric energy at wholesale.

Comment date: January 10, 2001, in accordance with Standard Paragraph E at the end of this notice. The Commission will limit its consideration of comments to those that concern the adequacy or accuracy of the application.

5. Morgantown OL5 LLC

[Docket No. EG01-56-000]

Take notice that on December 15, 2000, Morgantown OL5 LLC, c/o Wilmington Trust Company, Rodney Square North, 1100 North Market Street, Wilmington, DE 19890-0001, Attn: Corporate Trust Administration (Applicant), filed with the Federal Energy Regulatory Commission an application for determination of exempt wholesale generator status pursuant to Part 365 of the Commission's regulations.

Applicant is a Delaware special purpose limited liability company that intends to acquire an undivided ownership interest in the coal/oil-fired Units 1 and 2 located at the Morgantown Station located near Newburg, Maryland (the Morgantown Units). The Morgantown Units have an aggregate generating capacity of approximately 1164 MW. Applicant will be engaged directly and exclusively in the business of owning all or part of one or more eligible facilities and selling electric energy at wholesale.

Comment date: January 10, 2001, in accordance with Standard Paragraph E at the end of this notice. The Commission will limit its consideration of comments to those that concern the adequacy or accuracy of the application.

6. Morgantown OL6 LLC

[Docket No. EG01-57-000]

Take notice that on December 15, 2000, Morgantown OL6 LLC, c/o Wilmington Trust Company, Rodney Square North, 1100 North Market Street, Wilmington, DE 19890-0001, Attn: Corporate Trust Administration (Applicant), filed with the Federal Energy Regulatory Commission an application for determination of exempt wholesale generator status pursuant to Part 365 of the Commission's regulations.

Applicant is a Delaware special purpose limited liability company that intends to acquire an undivided ownership interest in the coal/oil-fired Units 1 and 2 located at the Morgantown Station located near Newburg, Maryland (the Morgantown Units). The Morgantown Units have an aggregate generating capacity of approximately 1164 MW. Applicant will be engaged directly and exclusively in the business of owning all or part of one or more eligible facilities and selling electric energy at wholesale.

Comment date: January 10, 2001, in accordance with Standard Paragraph E at the end of this notice. The Commission will limit its consideration of comments to those that concern the adequacy or accuracy of the application.

7. Morgantown OL7 LLC

[Docket No. EG01-58-000]

Take notice that on December 15, 2000, Morgantown OL7 LLC, c/o Wilmington Trust Company, Rodney Square North, 1100 North Market Street, Wilmington, DE 19890-0001, Attn: Corporate Trust Administration (Applicant), filed with the Federal Energy Regulatory Commission an application for determination of exempt wholesale generator status pursuant to Part 365 of the Commission's regulations.

Applicant is a Delaware special purpose limited liability company that intends to acquire an undivided ownership interest in the coal/oil-fired Units 1 and 2 located at the Morgantown Station located near Newburg, Maryland (the Morgantown Units). The Morgantown Units have an aggregate generating capacity of approximately 1164 MW. Applicant will be engaged directly and exclusively in the business of owning all or part of one or more eligible facilities and selling electric energy at wholesale.

Comment date: January 10, 2001, in accordance with Standard Paragraph E at the end of this notice. The Commission will limit its consideration of comments to those that concern the adequacy or accuracy of the application.

8. Dickerson OL1 LLC

[Docket No. EG01-59-000]

Take notice that on December 15, 2000, Dickerson OL1 LLC, c/o Wilmington Trust Company, Rodney Square North, 1100 North Market Street, Wilmington, DE 19890-0001, Attn: Corporate Trust Administration (Applicant), filed with the Federal Energy Regulatory Commission an application for determination of exempt wholesale generator status pursuant to Part 365 of the Commission's regulations.

Applicant is a Delaware special purpose limited liability company that intends to acquire an undivided ownership interest in the coal/oil-fired Units 1 through 3 located at the Dickerson Station located in Montgomery County, Maryland (the Dickerson Units). The Dickerson Units have an aggregate generating capacity of approximately 546 MW. Applicant will be engaged directly and exclusively in the business of owning all or part of one or more eligible facilities and selling electric energy at wholesale.

Comment date: January 10, 2001, in accordance with Standard Paragraph E at the end of this notice. The Commission will limit its consideration of comments to those that concern the adequacy or accuracy of the application.

9. Dickerson OL2 LLC

[Docket No. EG01-60-000]

Take notice that on December 15, 2000, Dickerson OL2 LLC, c/o Wilmington Trust Company, Rodney Square North, 1100 North Market Street, Wilmington, DE 19890-0001, Attn: Corporate Trust Administration (Applicant), filed with the Federal Energy Regulatory Commission an application for determination of exempt wholesale generator status pursuant to Part 365 of the Commission's regulations.

Applicant is a Delaware special purpose limited liability company that intends to acquire an undivided ownership interest in the coal/oil-fired Units 1 through 3 located at the Dickerson Station located in Montgomery County, Maryland (the Dickerson Units). The Dickerson Units have an aggregate generating capacity of approximately 546 MW. Applicant will be engaged directly and exclusively in the business of owning all or part of one or more eligible facilities and selling electric energy at wholesale.

Comment date: January 10, 2001, in accordance with Standard Paragraph E at the end of this notice. The Commission will limit its consideration of comments to those that concern the adequacy or accuracy of the application.

10. Dickerson OL3 LLC

[Docket No. EG01-61-000]

Take notice that on December 15, 2000, Dickerson OL3 LLC, c/o Wilmington Trust Company, Rodney Square North, 1100 North Market Street, Wilmington, DE 19890-0001, Attn: Corporate Trust Administration (Applicant), filed with the Federal Energy Regulatory Commission an application for determination of exempt wholesale generator status pursuant to Part 365 of the Commission's regulations.

Applicant is a Delaware special purpose limited liability company that intends to acquire an undivided ownership interest in the coal/oil-fired Units 1 through 3 located at the Dickerson Station located in Montgomery County, Maryland (the Dickerson Units). The Dickerson Units have an aggregate generating capacity of approximately 546 MW. Applicant will be engaged directly and exclusively in the business of owning all or part of one or more eligible facilities and selling electric energy at wholesale.

Comment date: January 10, 2001, in accordance with Standard Paragraph E at the end of this notice. The Commission will limit its consideration of comments to those that concern the adequacy or accuracy of the application.

11. Dickerson OL4 LLC

[Docket No. EG01-62-000]

Take notice that on December 15, 2000, Dickerson OL4 LLC, c/o Wilmington Trust Company, Rodney Square North, 1100 North Market Street, Wilmington, DE 19890-0001, Attn: Corporate Trust Administration (Applicant), filed with the Federal Energy Regulatory Commission an application for determination of exempt wholesale generator status pursuant to Part 365 of the Commission's regulations.

Applicant is a Delaware special purpose limited liability company that intends to acquire an undivided ownership interest in the coal/oil-fired Units 1 through 3 located at the Dickerson Station located in Montgomery County, Maryland (the Dickerson Units). The Dickerson Units have an aggregate generating capacity of approximately 546 MW. Applicant will be engaged directly and exclusively in the business of owning all or part of one or more eligible facilities and selling electric energy at wholesale.

Comment date: January 10, 2001, in accordance with Standard Paragraph E at the end of this notice. The Commission will limit its consideration of comments to those that concern the adequacy or accuracy of the application.

12. California Independent System Operator Corporation

[Docket No. ER01-313-001]

Take notice that on December 15, 2000, the California Independent System Operator Corporation (ISO) tendered for filing an Informational Filing containing information on the ISO's Operating Budget for 2001.

The ISO states that this filing has been served on the California Public Utilities Commission, all California ISO Scheduling Coordinators, and all parties on the official service lists maintained by the Secretary for the following dockets related to the Grid Management Charge: ER01-313-000, ER98-211-000, ER99-473-000, ER99-2730-000, EL99-47-000, and EL99-67-000.

Comment date: January 10, 2001, in accordance with Standard Paragraph E at the end of this notice.

13. GridFlorida LLC, Florida Power & Light Co., Florida Power Corporation, Tampa Electric Co.

[Docket No. RT01-67-001]

Take notice that on December 15, 2000, Florida Power & Light Company, Florida Power Corporation, and Tampa Electric Company (collectively, the Applicants), pursuant to Sections 203 and 205 of the Federal Power Act, jointly filed a supplement to their October 16, 2000 Order No. 2000 compliance filing providing for the creation of a Regional Transmission Organization (RTO). The Applicants propose to form GridFlorida LLC, a for profit transmission company that will act as the RTO for the Florida Reliability Coordinating Council region.

Comment date: January 5, 2001, in accordance with Standard Paragraph E at the end of this notice.

14. Citizens Utilities Company

[Docket Nos. EL01-20-000, ER95-1586-006, EL96-17-002 and OA96-184-004]

Take notice that on December 14, 2000, Citizens Communications Company (Citizens) submitted for filing, pursuant to the Commission's November 12, 1997 Letter order (approving settlement) in the above-captioned dockets (81 FERC ¶ 61,197 (1997), a final Audit Report in Compliance with Settlement Agreement. In addition, take notice that Citizens also filed on December 14, 2000 a Motion to Establish Hearings, and Petition for Declaratory Order.

The Final Audit Report filed by Citizens was conducted pursuant to a settlement in the above-captioned dockets. Citizens contests the results of the Final Audit Report. Accordingly, Citizens has included in its filing a motion to establish hearings to review the recommendations of the Final Audit Report, and a Petition for Declaratory Order that Citizens may recoup, with interest, any refunds or rate reductions made under the settlement that are subsequently found by the Commission to be in excess of the appropriate amount.

Comment date: January 4, 2001, in accordance with Standard Paragraph E at the end of this notice.

15. U.S. Department of Energy, Bonneville Power Administration

[Docket No. EF01-2021-000]

Take notice that on December 14, 2000, the Bonneville Power Administration (Bonneville), tendered for filing proposed rate adjustments for its 2002 transmission and ancillary rates pursuant to section 7(a)(2) of the Pacific Northwest Electric Power Planning and Conservation Act, 16 U.S.C. 839e(a)(2). Pursuant to Commission regulation 300.21, 18 CFR 300.21, Bonneville seeks final confirmation and approval of the proposed transmission and ancillary services effective October 1, 2001.

Bonneville requests approval for the period October 1, 2001 through September 30, 2003, for the following proposed transmission and ancillary services rates: Formula Power Transmission Rate (FPT-01.1); Formula Power Transmission Rate (FP-02.3); Integration of Resources Rate (IR-02); Network Integration Rate (NT-02); Point-to-Point Rate (PTP-02); Southern Intertie Rate (IS-02); Montana Intertie Rate (IM-02); Use-Of-Facilities Transmission Rate (TGT092); Eastern Intertie Rate (IE-02); and Ancillary Services and Control Areas Services Rate (ACS-02). In addition, Bonneville requests approval of General Rate Schedule Provisions for transmission and Ancillary Service Rates (GRSPs) for the period of October 1, 2001, through September 30, 2003. The GRSPs will apply to the 2002 transmission and ancillary services rate. The above rates propose an increase from the current rates for combined long-term transmission service and certain ancillary services on the Bonneville Network that range from approximately 7.0% to 24.3%. The rate increase for the Utility Delivery segment is 24.3%. The rate increase for combined long-term transmission service and certain ancillary services on the Southern Intertie is approximately 9.0%. Bonneville requests final approval of the proposed 2002 transmission and ancillary services rates discussed above be granted by June 30, 2001.

Bonneville also requests a finding by the Commission that the rate adjustments to the following transmission and ancillary services rates and rate provisions associated with its Open Access Transmission Tariff satisfy the Commission's comparability standards applicable to non-public utilities pursuant to the reciprocity conditions of Order 888 and 18 CFR 35.28(a): Network Integration Rate (NT-01); Point-to-Point Rate (PTP-02); Southern Intertie Rate (IS-02); Montana Intertie Rate (IM-02); Use-Of-Facilities Transmission Rate (UFT-02); Advance Funding Rate (AF-02); Ancillary Services and Control Area Services Rate (ACS-02); and GRSPs.

Comment date: January 10, 2001, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Linwood A. Watson, Jr.,
Acting Secretary.

[FR Doc. 00-33314 Filed 12-28-00; 8:45 am]

BILLING CODE 6717-01-P